DEPARTMENT OF HEALTH AND HUMAN SERVICES

Centers for Disease Control and Prevention

[60Day-17-17AZG; Docket No. CDC-2017-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on a proposed assessment of cancer prevention services at selected community mental health centers. CDC seeks to request an Office of Management and Budget (OMB) clearance for a three-year data collection project.

DATES: Written comments must be received on or before January 8, 2018.

ADDRESSES: You may submit comments, identified by Docket No. CDC-2017-0076 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessment of Cancer Prevention Services at Community Mental Health Centers—New—National Center for Chronic Disease Prevention and Health Promotion (NCCDPHP), Centers for Disease Control and Prevention (CDC).

Background and Brief Description

Compared to people without mental illness (MI), people with MI have higher rates of cancer risk factors such as smoking and obesity.

Many people with MI receive outpatient mental health care at community mental health centers (CMHC), and some of these facilities provide screening for cardiovascular disease and other chronic conditions. The extent to which cancer prevention services are provided at CMHCs is not understood.

This project will use online instruments and telephone interviews with psychiatric clinicians and administrators at selected CMHCs across the United States to assess the capacities of these facilities to provide cancer prevention services (e.g., cancer risk factor education, cancer screening referrals, tobacco cessation counseling) to clients.

With a goal to achieve a final analytic sample of at least 250 psychiatric clinicians and 250 administrators at CMHCs, researchers will interview a subset of 5%-10% of each group by telephone.

The objectives of this study are to (1) describe the capacity of CMHCs to provide cancer prevention services; (2) describe any written policies and procedures at CMHCS for providing these services; (3) describe any collaboration of CMHCs with health care providers or community health workers/organizations to provide these services; and (4) describe any barriers to providing these services. Researchers will ask respondents that provide cancer prevention services about best practices and lessons learned.

There will be no costs to the respondents other than their time. To calculate the total burden, we estimated 500 respondents for the surveys and 50 for the interviews. The average burden will vary from 15-20 minutes for the surveys and one hour for the interviews. The total estimated annual burden hours are 392.

Estimated Annualized Burden Hours
Type of respondents | Form name | Number of respondents | Number of responses per respondent | Average burden per response (in hours) | Total burden (in hours)
Psychiatric clinicians | Clinician Survey Instrument | 500 | 1 | 15/60 | 125
Administrators | Administrator Survey Instrument | 500 | 1 | 20/60 | 167
Psychiatric clinicians | Clinician Interview | 50 | 1 | 1 | 50
Administrators | Administrator Interview | 50 | 1 | 1 | 50
Total |  |  |  |  | 392

Leroy A. Richardson,
Chief, Information Collection Review Office, Office of Scientific Integrity, Office of the Associate Director for Science, Office of the Director, Centers for Disease Control and Prevention.

[FR Doc. 2017-24316 Filed 11-7-17; 8:45 am]

BILLING CODE 4163-18-P